DEPARTMENT OF HEALTH AND HUMAN SERVICES

Health Resources and Services Administration

Advisory Council; Notice of Meeting

In accordance with section 10(a)(2) of the Federal Advisory Committee Act(Public Law 92-463), announcement is made of the following National Advisory body scheduled to meet during the month of August 2000.

Name: Advisory Committee on Interdisciplinary, Community-Based Linkages.

Date and Time: August 13, 2000, 6 p.m.-8 p.m.; August 14 , 2000, 8:30 a.m.-5 p.m.; August 15, 2000, 8:30 a.m.-12 p.m.

Place: The Doubletree Hotel, Rockville, Maryland, 1750 Rockville Pike, Rockville, Maryland 20852.

The meeting is open to the public.

The full Committee will meet beginning August 13 and adjourning August 15, during the hours cited above. Agenda items will include, but not be limited to: Welcome and introduction of Committee members; introduction of the Division of Interdisciplinary and Community-Based Programs (DICP), Bureau of Health Professions (BHPr), Health Resources and Services Administration (HRSA), staff supporting Committee activities; an overview of HRSA, BHPr, and the DICP infrastructure and missions; the election of a Committee Chair and Vice-Chair; general discussion among Committee members of its charge under Section 756 of the Public Health Service Act, to include discussion of Committee reports; and scheduling of the next Committee meeting, which shall include but not be limited to: general discussion of topics to be addressed during the next Committee meeting.

Public comment will be permitted before lunch and at the end of the Committee meeting on August 14, 2000. Oral presentations will be limited to 5 minutes per public speaker. Persons interested in providing an oral presentation should submit a written request, with a copy of their presentation to: Mr. Leo Wermers, Principal Staff Liaison, Division of Interdisciplinary, Community-Based Programs, Bureau of Health Professions, Health Resources and Services Administration, Room 9-105, 5600 Fishers Lane, Rockville, Maryland 20857, Telephone (301) 443-1648.

Requests should contain the name, address, telephone number, and any business or professional affiliation of the person desiring to make an oral presentation. Groups having similar interests are requested to combine their comments and present them through a single representative. The Division of Interdisciplinary, Community-Based Programs will notify each presenter by mail or telephone of their assigned presentation time.

Persons who do not file an advance request for a presentation, but wish to make an oral statement, may register to do so at the Doubletree Hotel, Rockville, Maryland, on August 14, 2000. These persons will be allocated time as the Committee meeting agenda permits.

Anyone requiring information regarding the Committee should contact Mr. Wermers, Division of Interdisciplinary, Community-Based Programs, Bureau of Health Professions, Health Resources and Services Administration, Room 9-105, 5600 Fishers Lane, Rockville, Maryland 20857, Telephone (301) 443-1648.

Proposed agenda items are subject to change as priorities dictate.

Dated: July 25, 2000.
Jane M. Harrison,
Director, Division of Policy Review and Coordination.

[FR Doc. 00-19304 Filed 8-1-00; 8:45 am]

BILLING CODE 4160-15-P